DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. OFAC is also publishing the names of one or more properties or persons who have been removed from the SDN List.

DATES: This action was issued on January 21, 2026. See Supplementary Information for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On January 21, 2026, OFAC determined that the property and interests in property subject to U.S. jurisdiction of the following persons are blocked under the relevant sanctions authority listed below.

Individual

BILLING CODE 4810-AL-P

Entities

On January 21, 2026, OFAC determined that the following property and interests in property subject to U.S. jurisdiction of the following person are unblocked and that property and person have been removed from the SDN List.

Entity

1. ALTOMARE S.A., 5 Aitolikou, Piraeus 18545, Greece; Secondary sanctions risk: section 1(b) of Executive Order 13224, as amended by Executive Order 13886; Organization Established Date 10 Dec 2001; Identification Number IMO 5033025; Registration Number 999902991 (Greece) [SDGT] [IFSR] (Linked To: SEPEHR ENERGY JAHAN NAMA PARS COMPANY).

Vessel

1. KALLISTA (3E3407) Crude Oil Tanker Panama flag; Secondary sanctions risk: section 1(b) of Executive Order 13224, as amended by Executive Order 13886; Vessel Year of Build 2010; Vessel Registration Identification IMO 9411965; MMSI 352001127 (vessel) [SDGT] (Linked To: ALTOMARE S.A.).

(Authority: E.O. 13224, as amended.)

Bradley T. Smith,
Director, Office of Foreign Assets Control.

[FR Doc. 2026-01332 Filed 1-23-26; 8:45 am]

BILLING CODE 4810-AL-C